DEPARTMENT OF LABOR

Employment and Training Administration

[TA-W-70,851; TA-W-70,851A]

Kennametal, Inc., Irwin, PA; Kennametal, Inc., Including On-Site Leased Workers of Spherion Staffing Services, Bedford, PA; Amended Certification Regarding Eligibility To Apply for Worker Adjustment Assistance

In accordance with Section 223 of the Trade Act of 1974, as amended (“Act”), 19 U.S.C. 2273, the Department of Labor issued a Certification of Eligibility To Apply for Worker Adjustment Assistance on March 25, 2010, applicable to workers and former workers of Kennametal, Inc., Irwin, Pennsylvania (subject firm). The Department's Notice of Determination was published in the Federal Register on April 23, 2010 (75 FR 21354). The subject workers were engaged in activities related to the production of tungsten carbide performs and armor piercing products.

Information obtained by the Department revealed that the appropriate subdivision covered by the certification includes an auxiliary facility producing carbide tips.

Based on these findings, the Department is amending this certification to include workers of Kennametal, Inc., Bedford, Pennsylvania, including on-site leased workers of Spherion Staffing Services.

The amended notice applicable to TA-W-70,851 is hereby issued as follows:

All workers of Kennametal, Inc., Irwin, Pennsylvania (TA-W-70,851) and Kennametal, Inc., including on-site leased workers from Spherion Staffing Services, Bedford, Pennsylvania (TA-W-70,851A), who became totally or partially separated from employment on or after May 28, 2008, through March 25, 2012, and all workers in the group threatened with total or partial separation from employment on the date of certification through two years from the date of certification, are eligible to apply for adjustment assistance under Chapter 2 of Title II of the Trade Act of 1974, as amended.

Signed in Washington, DC, this 14th day of December 2010.
Del Min Amy Chen,
Certifying Officer, Office of Trade Adjustment Assistance.

[FR Doc. 2010-33048 Filed 12-30-10; 8:45 am]

BILLING CODE 4510-FN-P